DEPARTMENT OF AGRICULTURE

Forest Service

Roadless Area Conservation National Advisory Committee

AGENCY: Forest Service, USDA.

ACTION: Notice of meeting.

SUMMARY: The Roadless Area Conservation National Advisory Committee (Committee) will meet in Washington, DC. The purpose of this meeting is to review the petition submitted by the Governor of Colorado for state specific rulemaking for inventoried roadless area management in the State of Colorado under the authority of the Administrative Procedure Act, 5 U.S.C. 553(e) and 7 CFR 1.28 and to discuss other related roadless area matters.

DATES: The meeting will be held June 13 to June 14, 2007, from 9 a.m. to 5 p.m. each day.

ADDRESSES: The meeting will be held at the Forest Service's Yates Building at 201 14th Street, SW., Washington, DC 20250.

FOR FURTHER INFORMATION CONTACT: Jessica Call, Roadless Area Conservation National Advisory Committee (RACNAC) Coordinator, at jessicacall@fs.fed.us or (202) 205-1056, USDA Forest Service, 1400 Independence Avenue, SW., Mailstop 1104, Washington, DC 20250.

Individuals who use telecommunication devices for the deaf (TDD) may call the Federal Information Relay Service (FIRS) at 1-800-877-8339 between 8 a.m. and 8 p.m., Eastern Standard Time, Monday through Friday.

SUPPLEMENTARY INFORMATION: The meeting is open to the public and interested parties are invited to attend; building security requires you to provide your name to the RACNAC Coordinator (contact information listed above) by June 8, 2007. You will need photo identification to enter the building.

While meeting discussion is limited to Forest Service staff and Committee members, the public will be allowed to offer written and oral comments for the Committee's consideration. Attendees wishing to comment orally will be allotted a specific amount of time to speak during a public comment period at the end of the first day's agenda. To offer oral comment, please contact the RACNAC Coordinator at the contact number above.

Dated: May 16, 2007.
Gloria Manning,
Associate Deputy Chief, National Forest System.

[FR Doc. E7-9818 Filed 5-21-07; 8:45 am]

BILLING CODE 3410-11-P